Title 3—

The President

Proclamation 10310 of November 17, 2021

Antibiotic Awareness Week, 2021

By the President of the United States of America

A Proclamation

Antibiotic Awareness Week is an occasion to celebrate the miracles of science and medicine that improve and sustain our lives, including innovations in antibiotics that have transformed the treatment of illness. Antibiotics save lives, kill bacteria that cause infections, and make it possible for many modern health care practices—including cancer treatments or surgery—to be safely performed. This week is also an occasion to raise awareness of the dangers of misuse and overuse of antibiotics, which can lead to antibiotic resistance.

It is critical to the health of our Nation that antibiotics be used only as intended. In recent decades, the misuse of antibiotics has contributed to infectious germs becoming increasingly resistant to antibiotic drugs. Every year, more than 3 million people in the United States are infected—and nearly 50,000 are killed—by an antibiotic-resistant germ or an infection that can occur after taking antibiotics. Because most of these cases occur as a result of improper antibiotic use, it is essential that these drugs are used appropriately and only when necessary. During Antibiotic Awareness Week, we reaffirm our commitment to meet the challenge of antibiotic resistance and preserve the effectiveness of these lifesaving treatments.

My Administration is committed to a strong public health response to antibiotic resistance. We are pursuing the ambitious goals laid out in the National Action Plan for Combating Antibiotic-Resistant Bacteria, building on evidence-based activities that slow the spread of antibiotic resistant infections and striving to scale up tracking of antibiotic use across the country through systems such as the Centers for Disease Control and Prevention's National Healthcare Safety Network. We know the kinds of interventions that work to maintain the integrity of antibiotics and strengthen antibiotic stewardship across industries, and we are implementing those interventions and providing resources to analyze data and address inequities in antibiotic prescribing and use. In addition, we are examining how disparities in health care access and quality of care exacerbate antibiotic-resistant infections.

Every American has a vital role to play in this effort. Even small changes in how we use antibiotics can help defend against the threat of antibiotic resistance. Using the right antibiotic and the correct dosage for the proper duration at the prescribed time can help improve how antibiotics are used to prevent and control infections for all of us. During Antibiotic Awareness Week, we commit to doing our part to take on the threat of antibiotic resistance and pursue strategies that will make all Americans safer and healthier.

NOW, THEREFORE, I, JOSEPH R. BIDEN JR., President of the United States of America, by virtue of the authority vested in me by the Constitution and the laws of the United States, do hereby proclaim November 18 through November 24, 2021, as Antibiotic Awareness Week. I call upon the scientific community, medical professionals, educators, businesses, industry leaders, and all Americans to observe this week by promoting the responsible use of antibiotics and raising awareness of the dangers inherent to their misuse and overuse.

IN WITNESS WHEREOF, I have hereunto set my hand this seventeenth day of November, in the year of our Lord two thousand twenty-one, and of the Independence of the United States of America the two hundred and forty-sixth.

[FR Doc. 2021-25602

Filed 11-19-21; 8:45 am]

Billing code 3395-F2-P